DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | # Depth in feet aboveground * Elevation in feet (NGVD) + Elevation in feet (NAVD) Modified
Town of Austin, Arkansas
Docket No.: FEMA-B-7700
AR | Town of Austin | Unnamed Creek | Approximately 1,500 feet downstream of Ed Haymes Road | +235
|  |  | Approximately 3000 feet upstream from Ed Haymes Road | +269
* National Geodetic Vertical Datum.
# Depth in feet above ground.
+ North American Vertical Datum.
ADDRESSES
Town of Austin
Maps are available for inspection at City Hall, 202 W Hendricks, Austin, AR 72007.
City of Cabot, Arkansas
Docket No.: FEMA-B-7473
Arkansas | City of Cabot | Bayou Two Prairie Tributary | Approximately 150 feet upstream from the intersection with West Main Street | +288
|  |  | Intersection of Deer Creek Road | +299
Arkansas | City of Cabot | Hudson Branch | Upstream face of Highway 367 | +272
|  |  | Approximately 850 feet upstream from the intersection with Mockingbird Lane | +287
# Depth in feet above ground.
* National Geodetic Vertical Datum.
+ North American Vertical Datum.
ADDRESSES
Maps are available for inspection at 114 South 1st Street, Cabot, Arkansas 72023.
Unincorporated Areas of Lonoke County, Arkansas
Docket No.: FEMA-B-7473
Arkansas | Unincorporated Areas of Lonoke County | Hudson Branch Creek Tributary | Confluence with Hudson Branch Creek | +260
|  |  | Approximately 700 feet upstream from the intersection with Main Street | +314
# Depth in feet above ground.
* National Geodetic Vertical Datum.
+ North American Vertical Datum.
ADDRESSES
Maps are available for inspection at 200 North Center Street, Lonoke, AR 72007.
City of Ward, Arkansas
Docket No.: FEMA-B-7473
Arkansas | City of Ward | Cypress Bayou Tributary 11 | Confluence with Morrison Street | +225
|  |  | Approximately 50 feet upstream from the intersection with Brewer Street | +234
Arkansas | City of Ward | Cypress Bayou Tributary 11.1 | Confluence with Cypress Bayou 11 | +227
|  |  | Intersection with Cross Street | +241
# Depth in feet above ground.
* National Geodetic Vertical Datum.
+ North American Vertical Datum.
ADDRESSES
Maps are available for inspection at 405 Hickory Street, Ward, Arkansas 72126.
Kaycee, Wyoming | Docket No.: FEMA-B-7714
WY | Town of Kaycee | North Fork Powder River | Approximately 5,150 feet downstream from Highway 196—at the downstream corporate limits of Kaycee, Wyoming | +4639
|  |  | Approximately 180 feet downstream from I-25 North—at the upstream corporate limits of Kaycee, Wyoming | +4656
* National Geodetic Vertical Datum.
# Depth in feet above ground.
+ North American Vertical Datum.
ADDRESSES
Town of Kaycee
Maps are available for inspection at PO Box 265, Kaycee, Town of, WY 82639.

Flooding source(s) | Location of referenced elevation | * Elevation in feet (NGVD) + Elevation in feet (NAVD) # Depth in feet above ground. Modified | Communities affected
De Kalb County, Alabama, and Incorporated Areas
Docket Nos.: FEMA-7702 & FEMA-B-7714
Big Wills Creek | Approximately 7,000 feet downstream of confluence with Little Wills Creek | +672 | Town of Collinsville, Town of Hammondville, De Kalb County (Unincorporated Areas).
| Approximately 10,000 feet upstream of confluence with Little Wills Creek | +680
| Confluence with Davis Gap Creek | +783
| Approximately 2,000 feet upstream of confluence with Davis Gap Creek | +786
| Approximately 2,500 feet upstream of confluence with Hammond Branch | +963
| Approximately 5,000 feet upstream of confluence with Hammond Branch | +980
Davis Gap Creek | Confluence with Big Wills Creek | +783 | De Kalb County (Unincorporated Areas).
| Approximately 1,500 feet upstream of confluence with Big Wills Creek | +786
Ivy Creek | Confluence with Town Creek | +1152 | De Kalb County (Unincorporated Areas).
| Approximately 1,000 feet upstream of confluence with Town Creek | +1154
Little Wills Creek | Confluence with Big Wills Creek | +674 | Town of Collinsville, De Kalb County (Unincorporated Areas).
| Church Avenue Crossing | +710
| Approximately 1,500 feet upstream of SR 68 Crossing | +734
| Approximately 2,500 feet upstream of SR 68 Crossing | +738
Little Wills Creek Tributary | Approximately 5,000 feet upstream of confluence with Little Wills Creek | +729 | Town of Collinsville.
| Approximately 5,700 feet upstream of confluence with Little Wills Creek | +731
Little Wills Valley Branch | Approximately 2,500 feet downstream of 41st Street South Crossing | +839 | De Kalb County (Unincorporated Areas).
| Approximately 2,000 feet downstream of 41st Street South Crossing | +843
Phillips Branch | Approximately 200 feet upstream of South Sauty Creek | +1166 | City of Rainsville De Kalb County (Unincorporated Areas).
| Approximately 1,000 feet upstream of South Sauty Creek | +1171
Piney Creek | Approximately 7,000 feet downstream of Horton Road Crossing | +1199 | City of Rainsville, Town of Shiloh, De Kalb County (Unincorporated Areas).
| Confluence with Piney Creek Tributary | +1215
Town Creek | Approximately 1,000 feet upstream of confluence with Bynum Mill Branch | +1124 | City of Rainsville, De Kalb County (Unincorporated Areas).
| Approximately 2,000 feet upstream of SR35 Crossing | +1175
* National Geodetic Vertical Datum.
+ North American Vertical Datum.
# Depth in feet above ground.
ADDRESSES
City of Rainsville
Maps are available for inspection at 70 McCurdy Avenue, Rainsville, AL 35988.
Town of Collinsville
Maps are available for inspection at 39 Post Office Street, Collinsville, AL 35961.
Town of Hammondville
Maps are available for inspection at 37699 U.S. Highway 11, Hammondville, AL 35989.
Town of Shiloh
Maps are available for inspection at 111 Grand Avenue, Suite 200, Fort Payne, AL 35967.
De Kalb County (Unincorporated Areas)
Maps are available for inspection at 111 Grand Avenue, Suite 200, Fort Payne, AL 35967.
Geneva County, Alabama, and Incorporated Areas
Docket No.: FEMA-B-7714
Carter Mill Creek | Approximately 3,300 feet upstream of Bellwood Highway Crossing | +111 | Geneva County (Unincorporated Areas).
| Approximately 6,200 feet upstream of Bellwood Highway Crossing | +119
Choctawhatchee River | Approximately 1,500 feet downstream of confluence with Pea River | +99 | City of Geneva, Town of Eunola, Geneva County (Unincorporated Areas).
| Approximately 200 feet upstream of confluence with Schuttle Mill Creek | +105
Double Bridges Creek | City of Geneva Corporate Limits | +102 | Geneva County (Unincorporated Areas).
| Approximately 1,200 feet upstream of City of Geneva Corporate Limits | +102
Pea River | Approximately 7,000 feet upstream of SR 27 Crossing | +102 | Geneva County (Unincorporated Areas).
| Approximately 10,000 feet upstream of SR 27 Crossing | +102
Threemile Branch | Approximately 3,800 feet upstream of confluence with Pea River | +101 | Geneva County (Unincorporated Areas).
| Approximately 6,600 feet upstream of confluence with Pea River | +113
* National Geodetic Vertical Datum.
+ North American Vertical Datum.
# Depth in feet above ground.
ADDRESSES
City of Geneva
Maps are available for inspection at 517 S. Commerce, Geneva, AL 36340.
Town of Eunola
Maps are available for inspection at 200 S. Commerce Street, Geneva, AL 36340.
Geneva County (Unincorporated Areas)
Maps are available for inspection at 200 S. Commerce Street, Geneva, AL 36340.
Floyd County, Iowa, and Incorporated Areas
Docket No.: FEMA-D-7806
Hyers Creek | At Riverside Avenue | +1006 | Floyd County (Unincorporated Areas), City of Charles City.
| Approximately 3,800 feet upstream of Cleveland Street | +1035
* National Geodetic Vertical Datum.
+ North American Vertical Datum.
# Depth in feet above ground.
ADDRESSES
City of Charles City
Maps are available for inspection at City Hall, 105 Milwaukee Mall, Charles City, IA 50616.
Floyd County (Unincorporated Areas)
Maps are available for inspection at Floyd County Planning and Zoning, 101 South East 1st, Charles City, IA 50616.
Lyon County, Kansas, and Incorporated Areas
Docket No: FEMA-D-7806
Beaver Creek | At confluence with Cottonwood River | +1135 | Lyon County (Unincorporated Areas).
| Just upstream of Road 200 | +1209
Cottonwood River | Just upstream of Interstate 35 | +1123 | Lyon County (Unincorporated Areas).
| At the County Boundary with Chase County | +1144
East Tributary to Beaver Creek | At confluence with Beaver Creek | +1142 | Lyon County (Unincorporated Areas).
| Approximately 1250 feet upstream of Pond Embankment | +1218
East Tributary to Cottonwood River | Just upstream of Interstate 35 | +1123 | Lyon County (Unincorporated Areas), City of Emporia.
| Approximately 3000 feet upstream of Road 180 | +1150
Linck Creek | At confluence with Cottonwood River | +1128 | Lyon County (Unincorporated Areas).
| Approximately 3000 feet upstream of Road 200 | +1205
Ludy Creek | At confluence with Link Creek | +1129 | Lyon County (Unincorporated Areas).
| Just downstream of Road 190 | +1173
Moon Creek | At confluence with Cottonwood River | +1125 | Lyon County (Unincorporated Areas), City of Emporia.
| Approximately 1750 feet Northwest of intersection of Road E and Road 200 | +1200
West Tributary to Beaver Creek | At confluence with Beaver Creek | +1155 | Lyon County (Unincorporated Areas).
| At County Boundary with Chase County | +1187
* National Geodetic Vertical Datum.
+ North American Vertical Datum.
# Depth in feet above ground.
ADDRESSES
City of Emporia
Maps are available for inspection at 104 E. 5th Avenue, Emporia, KS 66801.
Lyon County (Unincorporated Areas)
Maps are available for inspection at 430 Commercial Street, Room 205, Lyon Co. Courthouse, Emporia, KS 66801.
Phelps County, Missouri (Unincorporated Areas)
Docket No.: FEMA-B-7711
Burger Branch | Approximately 900 ft downstream side of Brookridge Drive | *967 | Phelps County (Unincorporated Areas).
| About 2,200 ft upstream side of Old St. James Road | *1077
Little Piney Creek | About 1500 ft downstream of the confluence with Newburg Branch | *710 | Phelps County (Unincorporated Areas).
| About 3000 ft upstream of MO State Highway T / Water Street | *717
* National Geodetic Vertical Datum.
# Depth in feet above ground.
+ North American Vertical Datum.
ADDRESSES
Phelps County (Unincorporated Areas)
Maps are available for inspection at 200 North Main Street, 200 North Main Street, MO 65401.
Wilson County, Tennessee and Incorporated Areas
Docket No.: FEMA-B-7464
Anthony Branch | Confluence with North Fork Suggs Creek | +536 | Wilson County (Unincorporated Areas).
| Approximately 1.3 miles upstream of Logue Road | +579
Bartons Creek | Just downstream of Interstate 40 | +556 | Wilson County (Unincorporated Areas), City of Lebanon.
| Approximately 1030 feet upstream of Franklin Road | +570
Tributary 3 | Just upstream of Alhambra Drive | +508 | Wilson County (Unincorporated Areas), City of Lebanon.
| Approximately 1.0 mile upstream of Blair Lane | +674
Beech Log Creek | Confluence with Round Lick Creek | +655 | Wilson County (Unincorporated Areas), City of Watertown.
| Approximately 1.9 miles upstream of Sparta Pike | +754
Black Branch | Approximately 1490 feet upstream of confluence with Spring Creek | +578 | Wilson County (Unincorporated Areas), City of Lebanon.
| Approximately 3150 feet upstream of Sparta Pike | +616
Cave Creek | Confluence with Hurricane Creek | +597 | Wilson County (Unincorporated Areas).
| Approximately 3780 feet upstream of Hurricane Creek Road | +610
Cedar Creek | Approximately 1100 feet downstream of Beasleys Bend | +461 | Wilson County (Unincorporated Areas).
| Approximately 2050 feet upstream of Carthage Highway | +555
Fall Creek | Approximately 180 feet downstream of Old Murfreesboro Road | +554 | Wilson County (Unincorporated Areas).
| Approximately 1.3 miles upstream of Puckett Road | +731
Hurricane Creek | Approximately 3590 feet downstream of Mt Creary Road | +510 | Wilson County (Unincorporated Areas).
| Approximately 360 feet upstream of E Richmond Shop Road | +628
Jennings Fork Creek | Approximately 200 feet downstream of Flat Rock Road | +513 | Wilson County (Unincorporated Areas).
| Approximately 1 mile upstream of Blue Bird Road | +632
Martha Branch | Approximately 220 feet upstream of confluence with Spencer Creek | +509 | Wilson County (Unincorporated Areas), City of Lebanon.
| Approximately 560 feet upstream of Martha-Leeville Road | +557
North Fork Suggs Creek | Approximately 810 feet upstream of confluence with Suggs Creek | +536 | Wilson County (Unincorporated Areas).
| Approximately 1.3 miles upstream of Logue Road | +579
Tributary 1 | Confluence with North Fork Suggs Creek | +545 | Wilson County (Unincorporated Areas).
| Approximately 1.4 miles upstream of North Fork Suggs Creek | +617
Rocky Branch | Confluence with Smith Fork | +723 | Wilson County (Unincorporated Areas).
| Approximately 1.3 miles upstream of Clever Creek Road | +756
Round Lick Creek | Approximately 2130 feet downstream of Interstate 40 | +557 | Wilson County (Unincorporated Areas).
| Approximately 1900 upstream of Statesville Road | +668
Shop Springs Branch | Approximately 2900 feet upstream of confluence with Spring Creek | +601 | Wilson County (Unincorporated Areas).
| Approximately 3170 feet upstream of Young Road | +660
Tributary 1 | Confluence with Shop Springs Branch | +613 | Wilson County (Unincorporated Areas).
| Approximately 70 feet upstream of Shop Springs Road | +653
Sinking Creek Tributary 1 | Approximately 430 feet downstream of Hill Street | +527 | City of Lebanon.
| Approximately 115 feet upstream of Leeville Pike | +557
Tributary 3 | Approximately 450 feet upstream of confluence with Sinking Creek | +594 | Wilson County (Unincorporated Areas).
| Approximately 770 feet upstream of confluence with Sinking Creek | +594
Tributary 3.2 | Confluence with Sinking Creek Tributary 3 | +594 | Wilson County (Unincorporated Areas).
| Approximately 60 feet upstream Murfreesboro Road | +631
Smith Fork | Approximately 5190 feet downstream of State Highway 96 | +627 | Wilson County (Unincorporated Areas).
| Approximately 5030 feet upstream of Greenvale Road | +741
Snarl Creek | Approximately 1.7 miles downstream Central Pike | +503 | Wilson County (Unincorporated Areas), City of Mt. Juliet.
| Approximately 2400 feet upstream of South Mt. Juliet Road | +607
South Fork Cedar Creek | Just downstream of Interstate 40 | +577 | City of Lebanon.
| Approximately 180 feet upstream of State Highway 109 | +602
Spring Creek Tributary 4 | Approximately 500 feet upstream of confluence with Spring Creek | +572 | Wilson County (Unincorporated Areas).
| Approximately 100 feet upstream of Locust Grove Road | +643
Tributary 5 | Approximately 450 feet upstream of confluence with Spring Creek | +589 | Wilson County (Unincorporated Areas).
| Approximately 3560 feet upstream of confluence with Spring Creek | +620
Tributary 6 | Approximately 900 feet upstream of confluence with Spring Creek | +601 | Wilson County (Unincorporated Areas).
| Approximately 1620 feet upstream of confluence with Spring Creek | +604
Suggs Creek | Just upstream of Underwood Road | +565 | Wilson County (Unincorporated Areas).
| Approximately 2650 feet upstream of Stewarts Ferry Road | +619
Tributary 1 | Confluence with Suggs Creek | +568 | Wilson County (Unincorporated Areas).
| Approximately 1.5 miles upstream of Stewarts Ferry Pike | +624
Walker Branch | Approximately 370 feet downstream of Coles Ferry Pike | +493 | Wilson County (Unincorporated Areas), City of Lebanon.
| Approximately 3340 feet upstream of Hunters Point Pike | +546
# Depth in feet above ground.
* National Geodetic Vertical Datum.
+ North American Vertical Datum.
ADDRESSES
City of Lebanon
Maps are available for inspection at 200 Castle Heights Avenue, Lebanon, TN 37087.
City of Mt. Juliet
Maps are available for inspection at 2425 North Mt. Juliet Road, Mt. Juliet, TN 37122.
City of Watertown
Maps are available for inspection at 228 East Main Street, Courthouse Room 5, Lebanon, TN 37087.
Unincorporated Areas of Wilson County
Maps are available for inspection at 228 East Main Street, Courthouse Room 5, Lebanon, TN 37087.

(Catalog of Federal Domestic Assistance No. 97.022, “Flood Insurance.”)

Dated: September 4, 2007.
David I. Maurstad,
Federal Insurance Administrator of the National Flood Insurance Program, Department of Homeland Security, Federal Emergency Management Agency.

[FR Doc. E7-18291 Filed 9-14-07; 8:45 am]

BILLING CODE 9110-12-P